UNITED STATES INSTITUTE OF PEACE

Notice of Board of Directors Meeting

AGENCY: United States Institute of Peace (USIP) and Endowment of the United States Institute of Peace.

ACTION: Announcement of meeting.

SUMMARY: Virtual meeting of the Board of Directors.

DATES: Tuesday, August 2, 2022 (2 p.m.-3 p.m. EST).

ADDRESSES: Virtual Board Meeting Information: Join ZoomGov Meeting: https://usip-org.zoomgov.com/j/1614567867?pwd=WGxXdDQ3NklxR0taWjVwdUZ5UUxXQT09, Meeting ID: 161 456 7867.

FOR FURTHER INFORMATION CONTACT: Megan O'Hare, 202-429-4144, mohare@usip.org.

SUPPLEMENTARY INFORMATION: Open Session—Portions may be closed pursuant to subsection (c) of section 552b of title 5, United States Code, as provided in subsection 1706(h)(3) of the United States Institute of Peace Act, Public Law 98-525.

Authority: 22 U.S.C. 4605(h)(3).

Dated: July 26, 2022.
Rebecca Fernandes,
Director of Accounting.

[FR Doc. 2022-16435 Filed 7-29-22; 8:45 am]

BILLING CODE 2810-03-P